RAILROAD RETIREMENT BOARD

Agency Forms Submitted for OMB Review, Request for Comments

In accordance with the Paperwork Reduction Act of 1995 (44 U.S.C. Chapter 35), the Railroad Retirement Board (RRB) is forwarding an Information Collection Request (ICR) to the Office of Information and Regulatory Affairs (OIRA), Office of Management and Budget (OMB). Our ICR describes the information we seek to collect from the public. Review and approval by OIRA ensures that we impose appropriate paperwork burdens.

The RRB invites comments on the proposed collections of information to determine (1) the practical utility of the collections; (2) the accuracy of the estimated burden of the collections; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and purpose of information collection: Employee Representative's Status and Compensation Reports; OMB 3220-0014.

Under Section 1(b)(1) of the Railroad Retirement Act (RRA) (45 U.S.C. 231b), the term “employee” includes an individual who is an employee representative. As defined in Section 1(c) of the RRA, an employee representative is an officer or official representative of a railway labor organization other than a labor organization included in the term “employer,” as defined in the RRA, who before or after August 29, 1935, was in the service of an employer under the RRA and who is duly authorized and designated to represent employees in accordance with the Railway Labor Act, or, any individual who is regularly assigned to or regularly employed by such officer or official representative in connection with the duties of his or her office. The requirements relating to the application for employee representative status and the periodic reporting of the compensation resulting from such status is contained in 20 CFR 209.10.

The RRB utilizes Form DC-2, Employee Representative's Report of Compensation, to obtain the information needed to determine employee representative status and to maintain a record of creditable service and compensation resulting from such status. Completion is required to obtain or retain a benefit. One response is requested of each respondent.

Previous Requests for Comments: The RRB has already published the initial 60-day notice (87 FR 19538 on April 4, 2022) required by 44 U.S.C. 3506(c)(2). That request elicited no comments.

Information Collection Request (ICR)

Title: Employee Representative's Status and Compensation Reports.

OMB Control Number: 3220-0014.

Form(s) submitted: DC-2.

Type of request: Extension without change of a currently approved collection.

Affected public: Private Sector; Businesses or other for-profits.

Abstract: Benefits are provided under the Railroad Retirement Act (RRA) for individuals who are employee representatives as defined in section 1 of the RRA. The collection obtains information regarding the status of such individuals and their compensation.

Changes proposed: The RRB proposes no changes to Form DC-2.

The burden estimate for the ICR is as follows:

Form No. | Annual responses | Time (minutes) | Burden (hours)
DC-2 | 82 | 30 | 41
Total | 82 |  | 41

2. Title and purpose of information collection: Application for Survivor Insurance Annuities; OMB 3220-0030.

Under Section 2(d) of the Railroad Retirement Act (RRA) (45 U.S.C. 231a), monthly survivor annuities are payable to surviving widow(er)s, parents, unmarried children, and in certain cases, divorced spouses, mothers (fathers), remarried widow(er)s, and grandchildren of deceased railroad employees if there are no qualified survivors of the employee immediately eligible for an annuity. The requirements relating to the annuities are prescribed in 20 CFR 216, 217, 218, and 219.

To collect the information needed to help determine an applicant's entitlement to, and the amount of, a survivor annuity the RRB uses Forms AA-17, Application for Widow(er)'s Annuity; AA-17b, Applications for Determination of Widow(er)'s Disability; AA-18, Application for Mother's/Father's and Child's Annuity; AA-19, Application for Child's Annuity; AA-19a, Application for Determination of Child's Disability; AA-20, Application for Parent's Annuity, and electronic Forms AA-17cert, Application Summary and Certification and AA-17sum, Application Summary.

The on-line automated survivor annuity application (Forms AA-17, AA-18, AA-19, and AA-20) process obtains information about an applicant's marital history, work history, benefits from other government agencies, and Medicare entitlement for a survivor annuity. An RRB representative interviews the applicant either at a field office (preferred), an itinerant point, or by telephone. During the interview, the RRB representative enters the information obtained into an on-line information system. Upon completion of the interview, the system generates, for the applicant's review, either Form AA-17cert or AA-17sum, which provides a summary of the information that the applicant provided or verified. Form AA-17cert, Application Summary and Certification, requires a tradition pen and ink “wet” signature. Form AA-17sum, Application Summary, documents the alternate signing method called “Attestation,” which is an action taken by the RRB representative to confirm and annotate in the RRB records (1) the applicant's intent to file an application; (2) the applicant's affirmation under penalty of perjury that the information provided is correct; and (3) the applicant's agreement to sign the application by proxy. When the RRB representative is unable to contact the applicant in person or by telephone, for example, the applicant lives in another country, a manual version of the appropriate form is used. One response is requested of each respondent. Completion of the forms is required to obtain a benefit.

Previous Requests for Comments: The RRB has already published the initial 60-day notice (87 FR 19538 on April 4, 2022) required by 44 U.S.C. 3506(c)(2). That request elicited no comments.

Information Collection Request (ICR)

Title: Application for Survivor Insurance Annuities.

OMB Control Number: 3220-0030.

Form(s) submitted: AA-17b, AA-17cert, AA-17sum, and AA-19a.

Type of request: Extension without change of a currently approved collection.

Affected public: Individuals or Households.

Abstract: Under Section 2(d) of the Railroad Retirement Act, monthly survivor annuities are payable to surviving widow(er)s, parents, unmarried children, and in certain cases, divorced wives (husbands), mothers (fathers), remarried widow(er)s and grandchildren of deceased railroad employees. The collection obtains information needed by the RRB to determine entitlement to and the amount of the annuity applied for.

Changes proposed: The RRB proposes no changes to forms AA-17b, AA-17cert, AA-17sum, and AA-19a.

The burden estimate for the ICR is as follows:

Form No. | Annual responses | Time (minutes) | Burden (hours)
AA-17 Application Process:
AA-17cert | 900 | 20 | 300
AA-17sum | 2,100 | 19 | 665
AA-17b:
(With assistance) | 250 | 45 | 188
(Without assistance) | 20 | 55 | 18
AA-19a:
(With assistance) | 200 | 45 | 150
(Without assistance) | 15 | 65 | 16
Total | 3,485 |  | 1,337

3. Title and Purpose of information collection: Nonresident Questionnaire; OMB 3220-0145.

Under Public Laws 98-21 (45 U.S.C. 410) and 98-76 (45 U.S.C.231t), benefits under the Railroad Retirement Act payable to annuitants living outside the United States may be subject to taxation under United States income tax laws. Whether the social security equivalent and non-social security equivalent portions of Tier I, Tier II, vested dual benefit, or supplemental annuity payments are subject to tax withholding, and whether the same or different rates are applied to each payment, depends on a beneficiary's citizenship and legal residence status, and whether exemption under a tax treaty between the United States and the country in which the beneficiary is a legal resident has been claimed. To effect the required tax withholding, the Railroad Retirement Board (RRB) needs to know a nonresident's citizenship and legal residence status.

To secure the required information, the RRB utilizes Form RRB-1001, Nonresident Questionnaire, as a supplement to an application as part of the initial application process, and as an independent vehicle for obtaining the needed information when an annuitant's residence or tax treaty status changes. One response is requested of each respondent. Completion is voluntary.

Previous Requests for Comments: The RRB has already published the initial 60-day notice (87 FR 19539 on April 4, 2022) required by 44 U.S.C. 3506(c)(2). That request elicited no comments.

Information Collection Request (ICR)

Title: Nonresident Questionnaire.

OMB Control Number: 3220-0145.

Forms submitted: RRB-1001.

Type of request: Extension without change of a currently approved collection.

Affected public: Individuals or Households.

Abstract: Under the Railroad Retirement Act, the benefits payable to an annuitant living outside the United States may be subject to withholding under Public Laws 98-21 and 98-76. The form obtains the information needed to determine the amount to be withheld.

Changes proposed: The RRB proposes no changes to Form RRB-1001.

The burden estimate for the ICR is as follows:

Form No. | Annual responses | Time (minutes) | Burden (hours)
RRB-1001 (Initial Filing) | 300 | 30 | 250
RRB-1001 (Tax Renewal) | 1,000 | 30 | 400
Total | 1,300 |  | 650

Additional Information or Comments: Copies of the forms and supporting documents can be obtained from Kennisha Tucker at (312) 469-2591 or Kennisha.Tucker@rrb.gov. Comments regarding the information collection should be addressed to Brian Foster, Railroad Retirement Board, 844 North Rush Street, Chicago, Illinois 60611-1275 or Brian.Foster@rrb.gov.

Written comments and recommendations for the proposed information collection should be sent within 30 days of publication of this notice to www.reginfo.gov/public/do/PRAMain. Find this particular information collection by selecting “Currently under 30-day Review—Open for Public Comments” or by using the search function.

Brian Foster,
Clearance Officer.

[FR Doc. 2022-12700 Filed 6-10-22; 8:45 am]

BILLING CODE 7905-01-P